DEPARTMENT OF TRANSPORTATION

Federal Aviation Administration

14 CFR Part 71

[Docket No. FAA-2022-0253; Airspace Docket No. 21-ANM-09]

RIN 2120-AA66

Proposed Amendment of Class E Airspace; Coeur D'Alene—Pappy Boyington Field, ID

AGENCY: Federal Aviation Administration (FAA), DOT.

ACTION: Notice of proposed rulemaking (NPRM).

SUMMARY: This action proposes to modify the Class E surface airspace, and the Class E airspace extending upward from 700 feet above the surface at Coeur D'Alene—Pappy Boyington Field, ID. These airspace modifications support the addition of the RNAV GPS RWY 2 Instrument Approach Procedure (IAP, and the removal of the VOR/DME RWY 2 IAP at the airport). Additionally, this action proposes updates to the legal description. The Airport's location and use of the term “Notice to Airmen” are not correct and will require modification. These actions will ensure the safety and management of IFR operations at the airport.

DATES: Comments must be received on or before May 27, 2022.

ADDRESSES: Send comments on this proposal to the U.S. Department of Transportation, Docket Operations, 1200 New Jersey Avenue SE, West Building Ground Floor, Room W12-140, Washington, DC 20590; telephone: 1-800-647-5527, or (202) 366-9826. You must identify FAA Docket No. FAA-2022-0253; Airspace Docket No. 21-ANM-09, at the beginning of your comments. You may also submit comments through the internet at https://www.regulations.gov.

FAA Order JO 7400.11F, Airspace Designations and Reporting Points, and subsequent amendments can be viewed online at https://www.faa.gov/air_traffic/publications. For further information, you can contact the Airspace Policy Group, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would modify Class E airspace at Coeur D'Alene—Pappy Boyington Field, ID, to support IFR operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Persons wishing the FAA to acknowledge receipt of their comments on this notice must submit with those comments a self-addressed, stamped postcard on which the following statement is made: “Comments to Docket No. FAA-2022-0253; Airspace Docket No. 21-ANM-09”. The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 2200 S 216th Street, Des Moines, WA 98198.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Proposal

The FAA is proposing an amendment to 14 CFR part 71 by modifying Class E surface airspace and Class E airspace extending upward from 700 feet above the surface at Coeur D'Alene—Pappy Boyington Field, ID.

The area north of the airport requires additional airspace to properly contain departures due to rising terrain adjoining the Class E surface area in the northeast. The FAA proposes to widen and extend both the Class E surface area and Class E airspace extending upward from 700 feet above the surface to properly contain departures to points 700 feet above the surface and 1,200 feet above the surface, respectively.

Furthermore, the FAA proposes to modify the Class E airspace south of the airport. Both the current southern extension to the Class E surface area and the Class E airspace extending upward from 700 feet require modification to properly contain the 1,000 foot and 1,500 foot points of the RNAV GPS RWY 2 IAP, respectively.

Additionally, the FAA proposes to modify the Class E airspace extending upward from 700 feet west of the airport to better contain the 1,500 foot point of the RNAV GPS RWY 6 IAP, and to account for rising terrain west of the airport.

Finally, the FAA proposes to make administrative changes to the current legal descriptions. The Class E airspace extending from 700 feet above the surface is defined on line 1 of the current description to be located in “WA” State, and requires amendment to show the correct State, annotated as “ID.” Additionally, the legal description of the Class E airspace defined as a surface area uses the phrase “Notice to Airmen.” This should be amended to read “Notice to Air Missions” to match the FAA's current definition of “NOTAM.”

Class E2 and E5 airspace designations are published in paragraphs 6002 and 6005, respectively, of FAA Order JO 7400.11F, dated August 10, 2021, and effective September 15, 2021, which is incorporated by reference in 14 CFR 71.1. The Class E airspace designations listed in this document will be published subsequently in FAA Order JO 7400.11.

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6002 Class E Airspace Designated as Surface Areas.

* * * * *

ANM ID E2 Coeur D'Alene, ID [Amended]

Coeur D'Alene—Pappy Boyington Field

(Lat. 47°46′28″ N, long. 116°49′11″ W)

That airspace within a 4.4-mile radius of the Coeur D'Alene—Pappy Boyington Field, and within 1 mile each side of the 193° bearing extending from the 4.4-mile radius to 5.5 miles south of the airport, and that airspace 1.5 miles west and 3.5 miles east of the 019° bearing extending from the 4.4-mile radius to 5.2 miles northeast of the airport. This Class E airspace is effective during the specific dates and times established in advance by a Notice to Air Missions. The effective date and time will thereafter be continuously published in the Chart Supplement.

Paragraph 6005 Class E Airspace Areas Extending Upward From 700 Feet or More Above the Surface of the Earth.

* * * * *

ANM ID E5 Coeur D'Alene, ID [Amended]

Coeur D'Alene—Pappy Boyington Field

(Lat. 47°46′28″ N, long. 116°49′11″ W)

That airspace within a 4.4-mile radius of the Coeur D'Alene—Pappy Boyington Field, and within 2.2 miles each side of the 193° bearing from the airport extending from the 4.4-mile radius to 9 miles south of the airport, and that airspace 4.4 miles each side of the 251° bearing from the Coeur D'Alene—Pappy Boyington Field extending from the 4.4-mile radius to 16 miles west of the airport and that airspace 1.8 miles west and 4 miles east of the 013° bearing from the Coeur D'Alene—Pappy Boyington Field extending from the 4.4-mile radius to 8.5 miles northeast from the airport.

Issued in Des Moines, Washington, on April 5, 2022.
B.G. Chew,
Acting Group Manager, Operations Support Group, Western Service Center.

[FR Doc. 2022-07745 Filed 4-11-22; 8:45 am]

BILLING CODE 4910-13-P